CONSUMER PRODUCT SAFETY COMMISSION

16 CFR Chapter II

[Docket No. CPSC-2019-0001]

Possible Improvements to SaferProducts.gov; Request for Information and Notice of Public Hearing

AGENCY: U.S. Consumer Product Safety Commission.

ACTION: Request for written comments and notice of public hearing.

SUMMARY: The U.S. Consumer Product Safety Commission (CPSC) will hold a public hearing to receive information from interested parties about possible changes to CPSC's Publicly Available Consumer Product Safety Information Database, www.SaferProducts.gov, to improve the website's usefulness and ease of use. CPSC also requests written comments.

DATES: The public hearing will begin at 10 a.m. Eastern Standard Time (EST) on March 6, 2019. The Division of the Secretariat must receive requests to make oral presentations, along with the written text of oral presentations, no later than 5 p.m., on February 20, 2019. CPSC will accept written comments through April 3, 2019.

ADDRESSES: The public hearing will be in the Hearing Room, on the 4th Floor of the Bethesda Towers Building, 4330 East-West Highway, Bethesda, MD 20814. You may submit a request to make an oral presentation, along with the written text of the oral presentation, to the Division of the Secretariat, with the caption, “Improvements to SaferProducts.gov,” by email to cpsc-os@cpsc.gov, or by mail to the Division of the Secretariat, U.S. Consumer Product Safety Commission, 4330 East-West Highway, Bethesda, MD 20814.

You may submit written comments, identified by Docket No. CPSC-2019-0001, using the methods described below. CPSC encourages you to submit comments electronically, rather than in hard copy.

Electronic Submissions: Submit electronic comments to the Federal eRulemaking Portal at: www.regulations.gov. Follow the instructions for submitting comments provided on the website. CPSC does not accept written comments submitted by email.

Written Submissions: Submit written comments by mail, hand delivery, or courier to: Division of the Secretariat, U.S. Consumer Product Safety Commission, Room 820, 4330 East-West Highway, Bethesda, MD 20814; telephone (301) 504-7923.

Instructions: All submissions must include the agency name and docket number for this notice. CPSC may post all comments, without change, including any personal identifiers, contact information, or other personal information provided, to: http://www.regulations.gov. Do not submit confidential business information, trade secret information, or other sensitive or protected information that you do not want to be available to the public. If furnished at all, such information should be submitted by mail, hand delivery, or courier.

Docket: For access to the docket to read background documents or comments, go to: www.regulations.gov, and insert the docket number, CPSC-2019-0001, into the “Search” box, and follow the prompts.

FOR FURTHER INFORMATION CONTACT: Ian Elkin, Project Manager, Directorate for Epidemiology, U.S. Consumer Product Safety Commission, 4330 East-West Highway, Bethesda, MD 20814; telephone: (301) 504-7078; email: IElkin@cpsc.gov.

SUPPLEMENTARY INFORMATION:

I. Background

The Consumer Product Safety Improvement Act of 2008 (CPSIA; Pub. L. 110-314, 122 Stat. 3016) requires the Commission to establish and maintain a database on the safety of consumer products, and other products or substances the Commission regulates, that is publicly available, searchable, and accessible through CPSC's website. 15 U.S.C. 2055a(a)(1). The CPSIA includes specific content, procedural, and search requirements for the database. Id. 2055a(b), (c). In 2010, the Commission issued regulations regarding the database in 16 CFR part 1102, and in 2011, Congress added additional requirements to the database provisions. 75 FR 76832 (Dec. 9, 2010) (adopting 16 CFR part 1102); Sec. 7, Public Law 112-28, 125 Stat. 273 (amending 15 U.S.C. 2055a(c)).

To comply with these requirements, CPSC created the website www.SaferProducts.gov. The website allows consumers and others to submit reports of harm relating to the use of consumer products, and other products or substances the Commission regulates; allows businesses to comment on such reports; and allows users to search the database for product recalls and reports of harm that are published on www.SaferProducts.gov.

II. Request for Information

CPSC is considering improvements to www.SaferProducts.gov to make the website easier to understand, navigate, and interact with, as well as more useful for submitting and obtaining desired information. CPSC seeks stakeholders' recommendations and intends to use the information it receives to determine how to update and upgrade the website. CPSC is particularly interested in information about how the website could be more user-friendly, and possible modifications to make the searching, reporting, and commenting tools more useful. CPSC requests comments and suggestions to improve the usability of the website. In particular, CPSC seeks comments on the following topics:

1. How can the overall design of SaferProducts.gov be improved?

2. Have you attempted to visit SaferProducts.gov using a mobile device? What suggestions would you have to make that experience better?

3. Please describe any problems you encountered when using SaferProducts.gov. Please be as specific as possible.

4. How can the process of reporting on SaferProducts.gov be improved?

5. How can the instructions for submitting a report be improved?

6. Business users: How can the processes of registering, accessing, and responding to reports of products or other substances the Commission regulates on SaferProducts.gov be improved?

7. How can searching for recalls and reports on the website be improved?

8. What other information would be useful to publish or provide with the recall and incident report data?

9. Have you encountered any difficulty attempting to upload photos or videos with a report you may have submitted? Please describe what happened.

10. If CPSC were to create a data visualization tool (a tool to help people understand data by placing it in a visual context) to help consumers and businesses better understand the data captured through SaferProducts.gov, would that kind of tool be useful to you?

11. Currently, submitters of information to the website must check a box to consent to CPSC publishing their report on the website. CPSC is exploring whether this extra step in the submission process may decrease the number of published reports. CPSC is considering whether to move to a pre-checked box where permission to publish is granted by the submitter automatically unless the submitter explicitly opts out by checking a box. CPSC staff believes this could increase the number of published reports and increase awareness of potentially unsafe products. The reports that CPSC publishes on Saferproducts.gov are prohibited by law from including personal information, such as name, address, and contact information. Do you have suggestions or concerns about making this change?

12. Given the growth of online retail sales since the launch of SaferProducts.gov and that online retail sales platforms usually include an ability for consumers to provide a product rating or other feedback, how might CPSC motivate the provision of safety-related feedback to SaferProducts.gov as a primary, or at least additional, mechanism for capturing information on consumer product-related incidents?

13. How can the agency encourage the use of SaferProducts.gov among eligible reporters other than consumers, such as physicians, medical examiners, and first responders?

III. Options for Providing Input

Interested parties may provide the requested information through written comments or through oral presentations at a public hearing, or through both methods. Written comments and oral presentations will become part of the public record. To submit written comments, see the information under the DATES and ADDRESSES sections of this document.

At the public hearing, interested parties will have an opportunity to discuss their comments. To request the opportunity to make an oral presentation at the public hearing, see the information under the DATES and ADDRESSES sections of this document. Participants should limit their presentations to approximately 10 minutes, excluding time for questioning by the Commissioners. To avoid duplicate presentations, groups should designate a spokesperson, and the Commission reserves the right to limit presentation times, or impose further restrictions, as necessary.

Interested parties who do not attend the public hearing in person will be able to view the public hearing through a webcast, but they will not be able to interact with the panels and presenters.

Alberta E. Mills,
Secretary, Consumer Product Safety Commission.

[FR Doc. 2019-01817 Filed 2-8-19; 8:45 am]

BILLING CODE 6355-01-P